ENVIRONMENTAL PROTECTION AGENCY

[EPA-HQ-OPP-2008-0683; FRL-8794-3]

FIFRA Scientific Advisory Panel; Notice of Change to Public Meeting

AGENCY: Environmental Protection Agency (EPA).

ACTION: Notice.

SUMMARY: EPA issued a notice in the Federal Register of September 16, 2009, concerning a 4-day consultation meeting of the FIFRA Scientific Advisory Panel to consider and review a set of scientific issues related to the assessment of hazard and exposure associated with nanosilver and other nanometal pesticide products. This document is being issued to revise the times for the meetings.

DATES: The consultation meeting will be held Tuesday, November 3, 2009 from approximately 1:30 p.m. to 5 p.m.; and Wednesday thru Friday, November 4 - 6, 2009 from approximately 8:30 a.m. to 5 p.m. (eastern time).

FOR FURTHER INFORMATION CONTACT: Joseph E. Bailey, Designated Federal Official, Office of Science Coordination and Policy (7201M), Environmental Protection Agency, 1200 Pennsylvania Ave., NW., Washington, DC 20460-0001; telephone number: (202) 564-2045; e-mail address: bailey.joseph@epa.gov.

SUPPLEMENTARY INFORMATION:

I. General Information

A. Does this Action Apply to Me?

The Agency included in the original notice a list of those who may be potentially affected by this action. If you have questions regarding the applicability of this action to a particular entity, consult the person listed under FOR FURTHER INFORMATION CONTACT.

B. How Can I Get Copies of this Document and Other Related Information?

1. Docket. EPA has established a docket for this action under docket identification (ID) number EPA-HQ-OPP-2008-0683. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Does this Notice Do?

The notice changes the time for a FIFRA Scientific Advisory Panel meeting to consider and review a set of scientific issues related to the assessment of hazard and exposure associated with nanosilver and other nanometal pesticide products. The meeting announcement was published in the Federal Register of September 16, 2009. The meeting was originally scheduled for November 3, 2009 through November 6, 2009 and was to begin at 8:30 a.m. The time for the November 3, 2009 meeting has been changed from 8:30 a.m. - 5 p.m. to 1:30 p.m. to 5 p.m. (eastern time). All of the other information concerning the November 3, as well as the November 4 - 6, 2009 meeting remains the same.

List of Subjects

Environmental protection, Pesticides and pests.

Dated: September 30, 2009.
Frank Sanders,
Director, Office of Science Coordination and Policy.

[FR Doc. E9-24195 Filed 10-6-09; 8:45 am]

BILLING CODE 6560-50-S